DEPARTMENT OF THE INTERIOR

Bureau of Land Management

[UT-110-1610-029J, UT-060-1610-016J, UT-070-1610-011J, UT-050-1610-012J, UT-080-1610-010J]

Notice of Availability of Record of Decision for the Kanab, Moab, Price, Richfield, and Vernal Approved Resource Management Plans

AGENCY: Bureau of Land Management, Interior.

ACTION: Notice of availability.

SUMMARY: The BLM announces the availability of the Approved Resource Management Plans (RMPs)/Records of Decision (RODs) for the Kanab, Moab, Price, Richfield, and Vernal Field Offices located in Utah. The Department of the Interior Assistant Secretary for Land and Minerals Management signed the RODs for the Kanab, Moab, Price, Richfield, and Vernal planning areas on October 31, 2008, which constitute the final decisions of the Department of the Interior and makes the Approved RMPs effective immediately.

ADDRESSES: Copies of the Approved RMPs/RODs are available upon request at each of the five BLM Field Offices:

• BLM Kanab Field Office, 318 North 100 East, Kanab, Utah 84741, or via the Internet at http://www.blm.gov/ut/st/en/fo/kanab/planning/html

• BLM Moab Field Office, 82 East Dogwood, Moab, UT 84532, or via the Internet at http://www.blm.gov/ut/st/en/fo/moab/planning/html

• BLM Price Field Office, 125 South 600 West, Price, Utah 84501, or via the Internet at http://www.blm.gov/ut/st/en/fo/price/planning/html

• BLM Richfield Field Office, 150 East 900 North, Richfield, Utah 84701, or via the Internet at http://www.blm.gov/ut/st/en/fo/richfield/planning/html

• BLM Vernal Field Office, 170 South 500 East, Vernal, Utah 84078, or via the Internet at http://www.blm.gov/ut/st/en/fo/vernal/planning/html.

FOR FURTHER INFORMATION CONTACT: • BLM Kanab Field Office, Harry Barber, Field Office Manager, telephone (435) 644-4600; 318 North 100 East, Kanab, Utah 84741.

• BLM Moab Field Office, Brent Northrup, RMP Project Manager, telephone (435) 259-2100; 82 East Dogwood, Moab, Utah 84532.

• BLM Price Field Office, Floyd Johnson, Assistant Field Office Manager, telephone (435) 636-3600; 125 South 600 West, Price, Utah 84501.

• BLM Richfield Field Office, John Russell, Land Use Planner, telephone (435) 896-1532; 150 East 900 North, Richfield, Utah 84701.

• BLM Vernal Field Office, Howard Cleavinger, Assistant Field Office Manager, telephone (435) 781-4480; 170 South 500 East, Vernal, Utah 84078.

SUPPLEMENTARY INFORMATION: These five Approved RMPs were developed with multiple opportunities for public participation through multi-year collaborative planning processes. The BLM sought participation from the public, tribes, and local, State, and Federal agencies in the development of these five RMPs and will continue to pursue partnerships in the management of public lands. No inconsistencies with State or local plans, policies, or programs were identified during the Governor's consistency review of the five Proposed RMPs and Final Environmental Impact Statements (EIS). The Approved RMPs are designed to achieve or maintain desired future conditions identified through the planning processes.

The Kanab Field Office Approved RMP/ROD addresses management of approximately 550,000 acres of BLM-administered surface lands and an additional 96,600 acres of federally owned mineral estate in Kane and Garfield Counties, Utah. The planning effort addressed a variety of management issues, including: Visual resources; recreation and off-highway vehicle management; special designations including Areas of Critical Environmental Concern (ACEC) and suitability recommendations for wild and scenic rivers; cultural resources; lands with wilderness characteristics; range management and livestock grazing; mineral resources; and special status species, among others. The Kanab Approved RMP/ROD is nearly the same as Alternative B in the Kanab Proposed RMP/Final EIS, published in July 2008, and carries forward the designation decisions for two ACECs, as described in the Proposed RMP/Final EIS.

The Moab Field Office Approved RMP/ROD addresses management of approximately 1.8 million acres of BLM-administered surface lands and 1.9 million acres of federally owned mineral estate in Grand County and a small portion of San Juan County, Utah. The planning effort addressed a variety of management issues, including: Recreation opportunities especially within Special Recreation Management Areas; off-highway vehicle management; cultural resources; special designations including ACECs and suitability recommendations for wild and scenic rivers; lands with wilderness characteristics; visual resources; range management and livestock grazing; oil, gas and mining; and special status species, among others. The Moab Approved RMP/ROD is nearly the same as Alternative C in the Moab Proposed RMP/Final EIS, published in August 2008, and carries forward the designation decisions for five ACECs, as described in the Proposed RMP/Final EIS.

The Price Field Office Approved RMP/ROD addresses management of approximately 2.5 million acres of BLM-administered surface lands and 2.8 million acres of federally owned mineral estate in Emery and Carbon Counties, Utah. The planning effort addressed a variety of management issues, including: Oil and gas leasing; management of recreation opportunities in Special Recreation Management Areas; visual resources; off-highway vehicle management; special designations, including ACECs and suitability recommendations for wild and scenic rivers; range management and livestock grazing; lands with wilderness characteristics; and cultural resources, among others. The Price Approved RMP/ROD is the nearly the same as Alternative D in the Price Proposed RMP/Final EIS, published in August 2008, and carries forward the designation decisions for 13 ACECs, as described in the Proposed RMP/Final EIS.

The Richfield Field Office Approved RMP/ROD addresses management of approximately 2.1 million acres of BLM-administered surface lands and 3.0 million acres of federally owned mineral estate in Garfield, Piute, Sanpete, Sevier and Wayne Counties, Utah. The planning effort addressed a variety of resource issues, including: Visual resources; recreation and off-highway vehicle management; lands with wilderness characteristics; cultural resources; special designations, including ACECs and suitability recommendations for wild and scenic rivers; range management and livestock grazing; minerals and energy resources; and special status species, among others. The Richfield Approved RMP/ROD is the nearly the same as Alternative B in the Richfield Proposed RMP/Final EIS, published in August 2008, and carries forward the designation decisions of two ACECs, as described in the Proposed RMP/Final EIS.

The Vernal Field Office Approved RMP/ROD addresses management of approximately 1.7 million acres of BLM-administered surface lands and 2.8 million acres of federally owned mineral estate in Daggett, Duchesne, and Uintah Counties, Utah. The planning effort addressed a variety of management issues, including: Oil and gas leasing; rights-of-way; recreation and off-highway vehicle management; cultural resources; special designations, including ACECs and suitability recommendations for wild and scenic rivers; range management and livestock grazing; and special status species, among others. The Vernal Approved RMP/ROD is the nearly the same as Alternative A in the Vernal Proposed RMP/Final EIS, published in August 2008, and carries forward the designation decisions for seven ACECs, as described in the Proposed RMP/Final EIS.

The BLM Director's Office has dismissed or resolved each of the 87 protests received, thus allowing for immediate implementation of the Approved RMPs. These RODs serve as the final decision by the Department of the Interior for the land use plan and implementation-level decisions in the Approved RMP.

Jeff Rawson,
Acting State Director.

[FR Doc. E8-26089 Filed 10-30-08; 8:45 am]

BILLING CODE 4310-DQ-P